DEPARTMENT OF TRANSPORTATION

Office of the Secretary

Application of Air Greco, Inc. D/B/A Wings Air for Commuter Authority

AGENCY: Department of Transportation.

ACTION: Notice of Order to Show Cause (Order 2008-8-9), Docket DOT-OST-2008-0154.

SUMMARY: The Department of Transportation is directing all interested persons to show cause why it should not issue an order finding Air Greco, Inc. d/b/a Wings Air fit, willing, and able, and awarding it Commuter Air Carrier Authorization.

DATES: Persons wishing to file objections should do so no later than August 21, 2008.

ADDRESSES: Objections and answers to objections should be filed in Docket DOT-OST-2008-0154 and addressed to U.S. Department of Transportation, Docket Operations, (M-30, Room W12-140), 1200 New Jersey Avenue, SE., West Building Ground Floor, Washington, DC 20590, and should be served upon the parties listed in Attachment A to the order.

FOR FURTHER INFORMATION CONTACT: Rick Pittaway, Air Carrier Fitness Division (X-56, Room W86-467), U.S. Department of Transportation, 1200 New Jersey Avenue, SE., Washington, DC 20590, (202) 366-9721.

Dated: August 12, 2008.
Michael W. Reynolds,
Acting Assistant Secretary for Aviation and International Affairs.

[FR Doc. E8-19055 Filed 8-15-08; 8:45 am]

BILLING CODE 4910-9X-P